DEPARTMENT OF TRANSPORTATION

Federal Aviation Administration

14 CFR Part 39

[Docket No. 2003-CE-64-AD; Amendment 39-13638; AD 2004-10-08]

RIN 2120-AA64

Airworthiness Directives; Alexander Schleicher GmbH & Co. Segelflugzeugbau Model ASH 25M Sailplanes

AGENCY: Federal Aviation Administration (FAA), DOT.

ACTION: Final rule.

SUMMARY: The FAA adopts a new airworthiness directive (AD) for all Alexander Schleicher GmbH & Co. Segelflugzeugbau (Alexander Schleicher) Model ASH 25M sailplanes equipped with fuel injected engine IAE50R-AA. This AD requires you to inspect the fuel line for correct fittings, and, if any incorrect fitting is found, replace the fuel line. This AD is the result of mandatory continuing airworthiness information (MCAI) issued by the airworthiness authority for Germany. We are issuing this AD to detect and correct any fuel lines with improper fittings, which could result in fuel leakage and a possible fire hazard.

DATES: This AD becomes effective on July 6, 2004.

As of July 6, 2004, the Director of the Federal Register approved the incorporation by reference of certain publications listed in the regulation.

ADDRESSES: You may get the service information identified in this AD from Alexander Schleicher GmbH & Co. Segelflugzeugbau, D-36163 Poppenhausen, Federal Republic of Germany; telephone: 011-49 6658 89-0; facsimile: 011-49 6658 89-40.

You may view the AD docket at FAA, Central Region, Office of the Regional Counsel, Attention: Rules Docket No. 2003-CE-64-AD, 901 Locust, Room 506, Kansas City, Missouri 64106. Office hours are 8 a.m. to 4 p.m., Monday through Friday, except Federal holidays.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Discussion

What events have caused this AD? The Luftfahrt-Bundesamt (LBA), which is the airworthiness authority for Germany, recently notified FAA that an unsafe condition may exist on Alexander Schleicher sailplanes. The LBA reports that an incorrect fitting at one end of a fuel line was installed during production of the Model ASH 25M sailplane equipped with fuel injected engine IAE50R-AA. The incorrect fitting includes a combination of sealing cones. After maintenance, the incorrect combination of sealing cones inside the fittings might cause a fuel leak.

What is the potential impact if FAA took no action? Any fuel line with improper fittings could result in fuel leakage and a possible fire hazard.

Has FAA taken any action to this point? We issued a proposal to amend part 39 of the Federal Aviation Regulations (14 CFR part 39) to include an AD that would apply to all Alexander Schleicher Model ASH 25M sailplanes equipped with fuel injected engine IAE50R-AA. This proposal was published in the Federal Register as a notice of proposed rulemaking (NPRM) on February 11, 2004 (69 FR 6585). The NPRM proposed to require you to inspect the fuel line for correct fittings, and, if any incorrect fitting is found, replace the fuel line.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 2 sailplanes in the U.S. registry.

What is the cost impact of this AD on owners/operators of the affected sailplanes? We estimate the following costs to accomplish the inspection:

Labor cost | Parts cost | Total cost per sailplane | Total cost on U.S. operators
1 workhour at $65 per hour = $65 | Not Applicable | $65 | $130

We estimate the following costs to accomplish any necessary replacement that will be required based on the results of this inspection. We have no way of determining the number of sailplanes that may need this replacement:

Labor cost | Parts cost | Total cost per sailplane
1 workhour × $65 per hour = $65 | $160 | $65 + $160 = $225

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-64-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-10-08 Alexander Schleicher GmbH & Co. Segelflugzeugbau: Amendment 39-13638; Docket No. 2003-CE-64-AD.

When Does This AD Become Effective?

(a) This AD becomes effective on July 6, 2004.

What Other ADs Are Affected by This Action?

(b) None.

What Sailplanes Are Affected by This AD?

(c) This AD affects all Model ASH 25M sailplanes, all serial numbers, that are:

(1) certificated in any category; and

(2) equipped with fuel injected engine IAE50R-AA.

What Is the Unsafe Condition Presented in This AD?

(d) This AD is the result of mandatory continuing airworthiness information (MCAI) issued by the airworthiness authority for Germany. The actions specified in this AD are intended to detect and correct fuel lines with improper fittings, which could result in fuel leakage and a possible fire hazard.

What Must I Do To Address This Problem?

(e) To address this problem, you must do the following:

Actions | Compliance | Procedures
(1) Inspect the fuel line between the injection valve and pressure regulator for the correct color of connecting fittings (The connecting fitting at the injection valve must be blue and the connecting fitting at the pressures regulatory must be black.) | Within the next 50 hours time-in-service (TIS) after July 6, 2004 (the effective date of this AD), unless already done | Follow Alexander Schleicher GmbH & Co. Segelflugzeugbau ASH 25 Mi Technical Note No. 22, dated February 21, 2003.
(2) If you find any fuel line with blue connecting fittings at both ends, then replace the fuel line with a fuel line with a blue connecting fitting at the injection valve and a black connecting fitting at the pressure regulator | Before further flight after the inspection required by paragraph (e)(1) of this AD | Follow Alexander Schleicher GmbH & Co. Segelflugzeugbau ASH 25 Mi Technical Note No. 22, dated February 21, 2003.
(3) Do not install any fuel line that uses blue connecting fittings at both ends | As of July 6, 2004 (the effective date of this AD) | Not Applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

Does This AD Incorporate Any Material by Reference?

(g) You must do the actions required by this AD following the instructions in Alexander Schleicher GmbH & Co. Segelflugzeugbau ASH 25 Mi Technical Note No. 22, dated February 21, 2003. The Director of the Federal Register approved the incorporation by reference of this service bulletin in accordance with 5 U.S.C. 552(a) and 1 CFR part 51. You may get a copy from Alexander Schleicher GmbH & Co. Segelflugzeugbau, D-36163 Poppenhausen, Federal Republic of Germany; telephone: 011-49 6658 89-0; facsimile: 011-49 6658 89-40. You may review copies at FAA, Central Region, Office of the Regional Counsel, 901 Locust, Room 506, Kansas City, Missouri 64106; or at the National Archives and Records Administration (NARA). For information on the availability of this material at NARA, call (202) 741-6030, or go to: http://www.archives.gov/federal_register/code_of_federal_regulations/ibr_locations.html.

Is There Other Information That Relates to This Subject?

(h) German AD Number 2003-129, dated March 21, 2003, also addresses the subject of this AD.

Issued in Kansas City, Missouri, on May 12, 2004.
James E. Jackson,
Acting Manager, Small Airplane Directorate, Aircraft Certification Service.

[FR Doc. 04-11370 Filed 5-20-04; 8:45 am]

BILLING CODE 4910-13-P